FEDERAL MARITIME COMMISSION

Ocean Transportation Intermediary License; Revocation

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 004027F.

Name: U.S. Airfreight, Inc.

Address: 2624 NW. 112th Avenue, Doral, FL 33172.

Date Revoked: October 28, 2010.

Reason: Failed to maintain a valid bond.

License Number: 010182N.

Name: Cargo Specialists International, Inc.

Address: 241 Forsgate Drive, Suite 108, Jamesburg, NJ 08831.

Date Revoked: October 22, 2010.

Reason: Surrendered license voluntarily.

License Number: 017975N.

Name: Johnny Air Cargo, Inc.

Address: 69-04 Roosevelt Avenue, Woodside, NY 11377.

Date Revoked: October 20, 2010.

Reason: Surrendered license voluntarily.

License Number: 18050F.

Name: Trident Forwarding Service, Inc.

Address: 6980 NW. 43rd Street, Miami, FL 33166.

Date Revoked: October 29, 2010.

Reason: Failed to maintain a valid bond.

License Number: 019728NF.

Name: MHX International LLC.

Address: 300 David Lane, Roselle, IL 60172.

Date Revoked: October 27, 2010.

Reason: Failed to maintain valid bonds.

License Number: 020760F.

Name: AAA Cuban Transportation Cargo & Logistics, Inc.

Address: 6025 West 12th Avenue, Hialeah, FL 33012.

Date Revoked: October 27, 2010.

Reason: Failed to maintain a valid bond.

License Number: 021720N.

Name: Logicargo ASL Int'l Corp.

Address: 7707 NW. 46th Street, Doral, FL 33166.

Date Revoked: October 27, 2010.

Reason: Failed to maintain a valid bond.

Sandra L. Kusumoto,
Director, Bureau of Certification and Licensing.

[FR Doc. 2010-29069 Filed 11-17-10; 8:45 am]

BILLING CODE 6730-01-P